DEPARTMENT OF THE INTERIOR

Fish and Wildlife Service

[FWS-R4-R-2008-N0137; 40136-1265-0000-S3]

Archie Carr National Wildlife Refuge, Brevard and Indian River Counties, FL

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Archie Carr National Wildlife Refuge for public review and comment. In this Draft CCP/EA, we describe the alternative we propose to use to manage this refuge for the 15 years following approval of the Final CCP.

DATES: To ensure consideration, we must receive your written comments by July 28, 2008.

ADDRESSES: Requests for copies of the Draft CCP/EA should be addressed to: Archie Carr National Wildlife Refuge, P.O. Box 6504, Titusville, FL 32782-6504. Please indicate whether you would like a hardcopy or a compact diskette. The Draft CCP/EA may also be accessed and downloaded from the Service's Internet site: http://southeast.fws.gov/planning. You may also visit the refuge office at 1339 20th Street, Vero Beach, FL to obtain a copy. Comments on the Draft CCP/EA may be submitted to the above address or via electronic mail to: ArchieCarrCCP@fws.gov.

FOR FURTHER INFORMATION CONTACT: Cheri Ehrhardt, Natural Resource Planner; Telephone: 321/861-2368, or Joanna Webb, Park Ranger, Archie Carr National Wildlife Refuge; Telephone: 772/562-3909.

SUPPLEMENTARY INFORMATION:

Introduction

With this notice, we continue the CCP process for Archie Carr National Wildlife Refuge. We started the process through a notice in the Federal Register on April 24, 2000 (65 FR 21784).

The Archie Carr National Wildlife Refuge is administered under the Merritt Island National Wildlife Refuge Complex and co-managed with Pelican Island National Wildlife Refuge. Archie Carr Refuge is located along Florida's southeast coast between Melbourne Beach and Wabasso Beach in Brevard and Indian River Counties. Named after the famed sea turtle researcher, Dr. Archie F. Carr, the refuge was authorized in 1989 and established in 1991 to conserve threatened and endangered wildlife, especially sea turtles. The refuge is more than 250 acres in size and supports hundreds of wildlife and plant species. In addition, the refuge provides protection for listed terrestrial species and native wildlife and habitat diversity across a mix of habitats, including maritime hammock and coastal scrub. The refuge consists of four segments spanning 20.5 miles and protects historical and archaeological sites. Several partners work with the Service to manage and protect wildlife and habitat along this stretch of the barrier island. A growing human population along with ongoing development and other human activities currently threaten the refuge.

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

Significant issues addressed in the Draft CCP/EA include: Wildlife and habitat management, resource protection, visitor services, and refuge administration.

CCP Alternatives, Including Our Proposed Alternative

We developed four alternatives for managing the refuge and chose Alternative B as the proposed alternative. A full description of each alternative is in the Draft CCP/EA. We summarize each alternative below.

Alternative A—No Action Alternative

The refuge currently conducts limited management activities to protect sea turtles and other listed species; enhance biodiversity; and control exotic, invasive, and nuisance species.

From March 1 through September 30, the refuge conducts daily sea turtle nest surveys along five miles of beach in Indian River County. Partners survey thirteen miles in Brevard County and three miles of the Sebastian Inlet State Park. Completion of the surveys is dependent upon volunteers and partners. Nest predation rates are targeted at less than 10 percent, achieved through a combination of management techniques, including monitoring, trapping in target areas, and euthanizing nuisance animals. The refuge coordinates with Brevard and Indian River Counties and the Archie Carr Working Group to address lighting issues and unauthorized beach activities. The refuge also participates in stranded and injured sea turtle rescues. Further, the refuge annually supports about six sea turtle research studies on and around the refuge.

Minimal southeastern beach mouse activities are conducted on the refuge, with occasional surveys conducted by researchers. However, the refuge is currently working with the Service's North Florida Ecological Services' Field Office, the University of Central Florida, and the Cape Canaveral Air Force Station to translocate beach mice from the Air Force Station to refuge-managed lands just north of Sebastian Inlet in an effort to reestablish an extirpated population. The refuge is working with Sebastian Inlet State Park to conduct habitat management and monitoring activities in support of the translocation efforts.

The primary habitat management activity conducted by the refuge involves implementation of prescribed burns in scrub habitat on 5-year rotations. Fire suppression and prescribed burns are conducted by the Merritt Island National Wildlife Refuge fire crew in close coordination with Brevard County, Florida Park Service, and Florida Division of Forestry.

Minimal refuge management activities address exotic, invasive, and nuisance species control beyond the trapping of raccoons in relation to sea turtle nest protection. Although volunteers annually treat about five acres of refuge lands for exotic plants, the partners are actively conducting exotic plant control efforts on their properties. The refuge also seeks grants to control invasive exotics.

The refuge responds to cultural resource issues as they arise, coordinating with Merritt Island Refuge's law enforcement staff and the Regional Archaeologist. Currently, no law enforcement presence exists on the refuge, hence resource protection is minimal.

All authorized visitor activities within the refuge originate on partner properties. Other than special tours and research activities and limited uses that occur in the small area above mean high water and below the vegetation along the shorelines, the refuge's properties are closed to public access. All fishing activities occur on and from partner properties, with some fishing occurring along the refuge's Indian River Lagoon and Atlantic Ocean shorelines; however, unapproved access currently occurs through closed refuge lands. Wildlife viewing and photography opportunities occur on partner properties. The refuge annually conducts ten sea turtle viewing programs, while the partners conduct an additional forty programs.

All facilities, equipment, utilities, and staff are shared with nearby Pelican Island National Wildlife Refuge, with an office co-located with the South Florida Ecological Services' field office in Vero Beach, Florida. The refuge shares four full-time staff positions with Pelican Island Refuge, with two positions targeted for elimination. Archie Carr Refuge historically has received endangered species recovery funding to support sea turtle monitoring and protection and to hire a seasonal biological science technician; however, this funding activity ends in 2008.

Alternative B—Rare, Threatened, and Endangered Species (Proposed Action)

The refuge would expand management activities to protect federal and state listed species, migratory birds, and native wildlife and habitat diversity; expand management activities to control exotic, invasive, and nuisance species; and develop management activities to address the impacts of climate change on the refuge's resources.

Sea turtle nest surveys would continue as in Alternative A. Nest predation rates would be lowered from 10 percent to less than 5 percent through trapping. The refuge would continue to coordinate with Brevard and Indian River Counties and Archie Carr Working Group to address lighting issues and unpermitted beach activities. The refuge would continue to participate in rescuing stranded and injured sea turtles. Further, the refuge would foster needed research to support sea turtle recovery and would work with the Service's South Florida Ecological Services' Office to develop sea turtle recovery targets. Management activities would include oversight of beach and dune restoration and mitigation of effects from erosion control efforts.

Southeastern beach mouse management activities would be expanded. The refuge would actively modify and restore habitats to serve beach mice, including mechanical cutting of vegetation, prescribed burning, and planting of sea oats and other forage plants.

The refuge would develop management activities to address the needs of gopher tortoises. This would include working with the partners to evaluate and implement, where feasible, projects to reduce vehicle mortality.

Since only one known Florida scrub-jay family is known to occur on the refuge, the Service would evaluate its ability to meet the needs of this bird. The refuge would coordinate with the scrub-jay recovery team to evaluate management of refuge habitats to support the species. If determined to be feasible, the refuge would work with partners to restore former scrub-jay habitat on tracts in Segment 1, especially in the area of Twin Shores Park and Coconut Point Park.

The refuge would work with partners to minimize impacts to wood storks and the conflicts with humans (e.g., at fish cleaning houses). The refuge would expand management activities in relation to the bald eagle, piping plover, eastern indigo snake, and West Indian manatee.

Habitat management activities would be expanded or developed for scrub, the beach and dune system, and mangroves and wetlands. The refuge could continue to conduct regular prescribed burns in scrub habitat to help increase the amount and quality of scrub acreage managed on the refuge.

Control of exotic, invasive, and nuisance species activities would be expanded and focused on high priority habitats serving rare, threatened, and endangered species.

The refuge would institute management activities to address the impacts of climate change on refuge resources. This would be accomplished by coordinating with researchers and partners to identify climate change research needs for the refuge, and investigating the impacts of climate change on rare, threatened, and endangered species and their habitats.

The Service would pursue completion of the acquisition boundary from willing sellers through prioritized active acquisition efforts on those properties east of State Route A1A, and those adjacent to existing conservation lands. Land swaps, if necessary, would be used to protect high priority properties.

The refuge would continue to respond to cultural resource issues as they arise, but would expand efforts in relation to protection of the Oak Lodge Site.

A Pelican Island Refuge law enforcement officer would be shared with Archie Carr Refuge to conduct both nighttime and daytime patrols. Nighttime patrols would be conducted during the sea turtle nesting season to protect sea turtles from poaching and harassment.

All permitted visitor activities would continue to occur on partner properties. Other than special tours and research activities, the refuge's properties would remain closed to public access. Although users would continue to access the beach from partner properties and access the refuge's shoreline along the Indian River Lagoon above mean high water and below the vegetation. The refuge would continue to work directly with the partners to install kiosks at all approved beach access points, with messages focusing on the protection of rare, threatened, and endangered species.

All fishing activities would continue to occur or originate on partner properties. Unapproved access through closed refuge lands would be eliminated, and fishing activities would be directed toward approved access points. The refuge would work with the partners to evaluate the need to develop additional dune crossovers and to expand the monofilament recycling program.

Wildlife viewing and photography opportunities would continue to occur on partner properties. Environmental education and interpretive opportunities would be increased, and the refuge would develop on- and off-site curriculum-based and interpretive programs with messages focused on rare, threatened, and endangered species and the minimization of human impacts. The volunteer program would increase and volunteers would be coordinated by staff.

The refuge would continue to share facilities, equipment, utilities, and staff with Pelican Island Refuge, but would have its own budget and some of its own full-time staff members. The refuge would share a wildlife refuge manager, assistant refuge manager, refuge officer, administrative assistant, supervisory park ranger, supervisory maintenance worker, and wildlife biologist with Pelican Island Refuge. The staff specific to the refuge would include: Park ranger (volunteer coordinator/outreach and environmental education), maintenance worker, biological science technician, and a seasonal biological science technician (trapper).

Alternative C (Migratory Birds)

Sea turtle monitoring and patrol efforts would be altered to minimize their effects on nesting shorebirds. If sea turtle surveys and other beach-side activities associated with these species were determined to have a negative effect on nesting shorebirds, these efforts would have to be altered. Likewise, southeastern beach mouse monitoring would have to be scaled back or otherwise adjusted if these activities conflicted with migratory bird management needs. Gopher tortoise, Florida scrub-jay, wood stork, and eastern indigo snake management would remain unchanged.

For bald eagles, potential future nest sites would be protected. If eagles were found to be present, the refuge would adapt management as necessary, including creating closed areas to protect the site from human and pet disturbance.

Migratory bird management would increase under this alternative. Management of piping plovers would increase with annual wintering surveys. Survey and monitoring efforts would be expanded for neotropical migratory birds, shorebirds, wading birds, water birds, and waterfowl. The refuge would work with partners to identify the potential for larger, unfragmented forests to serve the needs of these trust species. Shorebird management would include the closure of key areas to limit disturbance, including the alteration or elimination of sea turtle surveys in locations where shorebirds are particularly vulnerable. Law enforcement would be increased to enforce “no dogs on beach” zones, where applicable. For wading and water birds, the refuge would work with the partners to increase the ability in the area to rehabilitate injured birds. With regards to waterfowl, the refuge would work with partners to manage impoundments to also benefit waterfowl.

Control of exotic, invasive, nuisance, and free-roaming/feral species would be expanded. The refuge would focus exotic plant control efforts on high priority habitats for migratory birds (e.g., maritime hammock). In addition, the refuge would coordinate with the partners to control feral and free-roaming animals to minimize adverse impacts to migratory birds.

Under this alternative, the refuge would complete the boundary survey and prioritize active acquisition efforts on those properties with high migratory bird values. In addition, the refuge would consider a coordinated land management approach and consolidate those areas publicly held by multiple partners under the lead management of one entity (e.g., through management agreements and land swaps).

A complete archaeological and historical survey of the refuge would be conducted. The refuge would also actively work with the partners to acquire or otherwise manage and protect the historically important Oak Lodge Site due to its contributions to research and historical data on migratory birds of the barrier island.

Visitor services would be expanded under this alternative. Visitor informational resources would be altered with messages emphasizing migratory birds. An interpretive kiosk would be added to the Oak Lodge Site and a bird list would be developed.

Management of fishing would be increased under this alternative. The refuge would work with the partners to provide information to the fishing public regarding the impacts of fishing activities on migratory birds (e.g., disturbance of shorebirds and monofilament line). All unapproved foot trails to public access through refuge properties would be closed, and the fishing public would be directed to approved access points. The need to create additional dune crossovers on partner properties would be evaluated.

Wildlife viewing and photography would be changed from current management efforts. The sea turtle walk programs conducted by the Service would be eliminated. The refuge would work with the partners to develop informational materials for partners' trails to include migratory bird messages of the refuge. Staff and/or volunteer-led migratory bird walks would be developed by the refuge. Environmental education, interpretation, and outreach activities would be expanded.

Alternative C would increase staffing levels. Staff shared with Pelican Island Refuge would include: Wildlife refuge manager, assistant refuge manager, refuge officer, administrative assistant, supervisory park ranger, supervisory maintenance worker, and wildlife biologist for a total of seven shared full-time employees. Full-time refuge-specific staff would include: Biological science technician, park ranger, and maintenance worker for a total of three full-time employees.

Alternative D (Wildlife and Habitat Diversity)

For sea turtles, regular law enforcement patrols would be conducted to protect these marine reptiles from disturbance and harassment. In addition, the refuge would work with private landowners and beach goers to minimize impacts to sea turtles (e.g., barriers to nesting, harassment of nesting and hatching sea turtles, and lighting). The refuge would coordinate and analyze sea turtle data and work with the partners to understand and manage nearshore habitats.

Management of southeastern beach mice would include modifying and restoring habitats utilized by this species, including maintaining and opportunistically planting sea oats and other forage plants. The refuge would increase control of feral predators.

Gopher tortoise management would be expanded under this alternative. The refuge, working with the partners, would identify locations where the gopher tortoise is especially vulnerable to vehicle collisions and evaluate the feasibility of developing wildlife underpasses, especially during roadway maintenance work. Gopher tortoise crossing signs would be posted in key areas.

To minimize injury and drowning, the refuge would coordinate with partners to prevent manatees from entering water control structures.

Piping plovers and eastern indigo snakes would be included in wildlife diversity surveys in an effort to determine the extent of their presence on the refuge.

Control of exotic, invasive, and nuisance species would be expanded. The refuge would locate and identify new infestations of Categories I and II plants and work to eradicate these, while controlling non-native plants already established. It would coordinate with partners to control feral and free-roaming animals.

The refuge would increase its efforts to minimize the effects of climate change. First, it would coordinate with researchers and partners to investigate the impacts of climate change on refuge resources and identify climate change research needs. It would foster and conduct needed research studies and adapt management as necessary.

Under Alternative D, the refuge would complete the boundary survey and prioritize active acquisition efforts on those properties with high biodiversity values. The refuge would work to complete acquisition of lands within the acquisition boundary from willing sellers and use land swaps, where appropriate, as a method to meet this objective. Through collaboration with partners, areas high in biodiversity and wildlife corridors would be identified and protected.

Under this alternative, a complete archaeological and historical survey of the refuge would be conducted. The refuge would also actively work with the partners to acquire or otherwise manage and protect the Oak Lodge Site due to its contributions to research and historical data on barrier island biodiversity.

Visitor service programs would be expanded under this alternative. Informational resources available to visitors would emphasize biodiversity on the refuge. The refuge would work with the partners to incorporate wildlife and habitat diversity messages into their signage.

Fishing would be increased. The refuge would close all unapproved foot trails to public access through refuge properties and direct the fishing public to approved access points. The need to create additional dune crossovers on partner properties would be evaluated.

Wildlife viewing and photography would be changed from current management efforts. Sea turtle walk programs conducted by the Service would remain the same. The refuge would work with the partners to develop informational materials for partners' trails to include wildlife and habitat diversity messages of the refuge. Staff and/or volunteer-led migratory bird walks would be developed by the refuge.

The refuge would increase environmental education, interpretation, and outreach activities under this alternative. Through collaborative efforts with the partners, the refuge would incorporate more information on biodiversity into existing education programs. On- and off-site interpretive programs aimed at maintaining or increasing biodiversity and the minimization of human impacts would be developed.

Nighttime access to the beach from refuge properties would be eliminated and the refuge would close all unapproved foot trails to public access through its properties. On partner properties, the refuge would collaborate to eliminate nighttime access to the beach via unapproved foot trails. In addition, the need to close, relocate, or build dune crossovers at these sites would be evaluated.

Under Alternative D, staff levels would be increased. Shared staff with Pelican Island Refuge would include: Wildlife refuge manager, assistant refuge manager, refuge officer, administrative assistant, supervisory park ranger, supervisory maintenance worker, and wildlife biologist for a total of seven shared full-time positions. Full-time refuge-specific staff would include: Biological science technician, park ranger, maintenance worker, and seasonal biological science technician for a total of 3.5 full-time positions.

Next Step

After the comment period ends, we will analyze the comments and address them in the form of a final CCP and Finding of No Significant Impact.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Public Law 105-57.

Dated: June 9, 2008.
Cynthia K. Dohner,
Acting Regional Director.

[FR Doc. E8-14478 Filed 6-25-08; 8:45 am]

BILLING CODE 4310-55-P